DEPARTMENT OF COMMERCE

International Trade Administration

[A-570-932]

Certain Steel Threaded Rod From the People's Republic of China: Extension of Time Limit for the Final Results of Antidumping Duty Administrative Review

AGENCY: Import Administration, International Trade Administration, Department of Commerce.

DATES: Effective Date: July 22, 2011.

FOR FURTHER INFORMATION CONTACT: Toni Dach or Steven Hampton, AD/CVD Operations, Office 9, Import Administration, International Trade Administration, U.S. Department of Commerce, 14th Street and Constitution Avenue, NW., Washington, DC 20230; telephone: (202) 482-1655 or (202) 482-0116, respectively.

Background

On May 9, 2011, the Department of Commerce (“Department”) published in the Federal Register the Preliminary Results of the administrative review of certain steel threaded rod from the People's Republic of China (“PRC”), covering the period October 8, 2008-March 31, 2010. See Certain Steel Threaded Rod From the People's Republic of China: Preliminary Results of the First Administrative Review and Preliminary Rescission, in Part, 75 FR 26696 (May 9, 2011).

Extension of Time Limit for the Final Results

Section 751(a)(3)(A) of the Tariff Act of 1930, as amended (“the Act”), requires the Department to issue the final results of an administrative review within 120 days after the date on which the preliminary results have been published. If it is not practicable to complete the review within the time period, section 751(a)(3)(A) of the Act allows the Department to extend this deadline to a maximum of 180 days. The current deadline for the completion of the final results of this review is September 6, 2011.

The Department has determined that completion of the final results of this review by the current deadline is not practicable. The Department requires more time to analyze a significant amount of complex information, including information pertaining to the labor wage rate surrogate value. Therefore, given the number and complexity of issues in this case, and in accordance with section 751(a)(3)(A) of the Act, we are extending the time period for issuing the final results of review by 55 days to October 31, 2011.

This notice is published pursuant to sections 751(a)(3)(A) and 777(i)(1) of the Act and 19 CFR 351.213(h)(2).

Dated: July 18, 2011.
Christian Marsh,
Deputy Assistant Secretary for Antidumping and Countervailing Duty Operations.

[FR Doc. 2011-18575 Filed 7-21-11; 8:45 am]

BILLING CODE 3510-DS-P